DEPARTMENT OF DEFENSE

Office of the Secretary

[Transmittal No. 0B-16]

36(b)(5)(C) Arms Sales Notification

AGENCY: Defense Security Cooperation Agency, Department of Defense.

ACTION: Notice.

SUMMARY: The Department of Defense is publishing the unclassified text of a section 36(b)(5)(C) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 0B-16 with attached Policy Justification.

Dated: January 5, 2016.
Aaron Siegel,
Alternate OSD Federal Register Liaison Officer, Department of Defense.

BILLING CODE 5001-06-P

Transmittal No. 0B-16

REPORT OF ENHANCEMENT OR UPGRADE OF SENSITIVITY OF TECHNOLOGY OR CAPABILITY (SEC. 36(B)(5)(C), AECA)

(i) Purchaser: Government of India

(ii) Sec. 36(b)(l), AECA Transmittal No.: 11-44

Date: 26 October 2011

Military Department: Air Force

(iii) Description: On 26 October 2011, Congress was notified by Congressional certification transmittal number 11-44, of the possible sale under Section 36(b)(1) of the Arms Export Control Act of 6 Lockheed Martin C-130J United States Air Force (USAF) baseline aircraft including: USAF baseline equipment, 6 Rolls Royce AE 2100D3 spare engines, 8 AN/AAR-47 Missile Warning Systems (two spares), 8 AN/ALR-56M Advanced Radar Warning Receivers (two spares), 8 AN/ALE-47 Counter-Measures Dispensing Systems (two spares), 8 AAQ-22 Star SAFIRE III Special Operations Suites (two spares), 8 ARC-210 Radios (non-COMSEC), and 3200 Flare Cartridges. Also included are spare and repair parts, configuration updates, communications security equipment and radios, integration studies, support equipment, publications and technical documentation, technical services, personnel training and training equipment, foreign liaison office support, Field Service Representatives' services, U.S. Government and contractor engineering and logistics personnel services, and other related elements of logistics support. The estimated Major Defense Equipment (MDE) was $650 million, non-MDE was $550 million, with a total estimated cost of $1.2 billion.

This transmittal reports the inclusion of the following quantity of items:

Major Defense Equipment: one (1) Lockheed Martin C-130J USAF baseline aircraft with four (4) Rolls Royce AE 2100D3 engines.

Non-MDE: one (1) AN/AAR-47 Missile Warning System, one (1) AN/ALR-56M Advanced Radar Warning Receiver, one (1) AN/ALE-47 Counter-Measures Dispensing System, one (1) AAQ-22 Star SAFIRE III Special Operations Suite, and one (1) ARC-210 Radio (non-COMSEC).

Adding an additional aircraft to this case results in a net MDE increase of $107 million, and a non-MDE increase of $29 million. The revised estimated total value is $1.336 billion, with the revised MDE value constituting $757 million of this new total.

(iv) Significance: The Government of India has requested the purchase of an additional C-130J aircraft. India purchased six (6) C-130J aircraft in 2008. In April 2014, one (1) of the six (6) original aircraft was lost in a crash. The potential sale of one (1) additional C-130J allows India to replace the lost aircraft.

(v) Justification: This proposed sale will contribute to the foreign policy and national security of the United States by helping to strengthen the U.S.-India strategic relationship and to improve the capabilities of a major South Asian partner which has been, and continues to be, an important force for economic progress and stability in South Asia. The proposed sale provides India with additional airlift capability for military transport, humanitarian assistance, and disaster relief.

(vi) Date Report Delivered to Congress: 02 DEC 2015

[FR Doc. 2016-00115 Filed 1-7-16; 8:45 am]

BILLING CODE 5001-06-C